DEPARTMENT OF TRANSPORTATION

Research and Special Programs Administration

[Docket No. RSPA-2002-11270, Notice No. 02-07]

Modification to Safety Advisory Concerning the Retesting of Cylinders Without Calibration of Test Equipment

AGENCY: Research and Special Programs Administration (RSPA), DOT.

ACTION: Modification of a safety advisory notice.

SUMMARY: On July 9, 2002, Research and Special Programs Administration (RSPA; we) published a safety advisory notice in the Federal Register (67 FR 45582) advising the public that we are investigating the alleged improper marking of DOT-specification cylinders and/or tube trailers by BKC Industries, Inc. 2117 Will Suitt Road, Creedmore, NC 27522. This safety advisory notice modifies the July 9, 2002 safety advisory notice.

FOR FURTHER INFORMATION CONTACT: Raymond LaMagdelaine, Office of Hazardous Materials Enforcement, Research and Special Programs Administration, U.S. Department of Transportation, 400 Seventh Street, SW., Washington, DC 20590, Telephone: (202) 366-4700, Fax: (202) 366-2784; or Mark Toughiry, Office of Hazardous Materials Technology, Research and Special Programs Administration, U.S. Department of Transportation, 400 Seventh Street, SW., Washington, DC 20590, Telephone: (202) 366-4545, Fax: (202) 366-3650.

SUPPLEMENTARY INFORMATION: The cylinders and tube trailers at issue in the July 9, 2002 safety advisory and in this safety advisory notice were marked by BKC industries, Inc. with the retester identification number (RIN) D236 and stamped with a retest date between August 1998 and October 2001. In the previous safety advisory notice, RSPA recommended that filled cylinders and tube trailers should be vented or otherwise safely discharged and then taken to a DOT-authorized cylinder retest facility for retesting. In addition, we recommended that the cylinders and tube trailers not be filled, refilled, or used for the their intended purpose until they had been reinspected, retested and recertified by a DOT-authorized facility.

Upon further review of this matter, we believe that the cylinders and tube trailers subject to the safety advisory notice may continue in service provided each cylinder and tube trailer is thoroughly inspected by external visual examination at the time the cylinder or tube trailer is to be refilled. The visual examination should be conducted to the extent practicable without removing the cylinders or tubes from the trailer assembly. Records of the first visual examination conducted after the date of this safety advisory notice should be retained until the cylinder or tube is requalified. RSPA expects that BKC Industries will work with cylinder and tube trailer owners to arrange for requalification of the cylinders and tube trailers at issue.

Issued in Washington, DC on July 18, 2002.
Frits Wybenga,
Deputy Associate Administrator for Hazardous Materials Safety.

[FR Doc. 02-18771 Filed 7-24-02; 8:45 am]

BILLING CODE 4910-60-P